DEPARTMENT OF ENERGY

Federal Energy Regulatory Commission

[Project No. 13429-000, Project No. 13455-000]

City of Burlington, IA; FFP Iowa 5, LLC Notice of Preliminary Permit Applications Accepted for Filing and Soliciting Comments, Motions To Intervene, and Competing Applications

May 15, 2009.

On April 8, 2009, the City of Burlington, Iowa filed an application, pursuant to section 4(f) of the Federal Power Act (FPA), proposing to study the feasibility of the City of Burlington Hydroelectric Project (Burlington Project) No. 13429, to be located on the Mississippi River, in Des Moines County, Iowa and Henderson County, Illinois. On April 29, 2009, FFP Iowa 5, LLC filed an application, pursuant to the FPA, proposing to study the feasibility of the Mississippi River Lock and Dam No. 18 Water Power Project (L&D 18 Project) No. 13455, to be located on the Mississippi River, in Des Moines County, Iowa.

The proposed Burlington and L&D 18 projects would be located at the existing U.S. Army Corps of Engineers (Corps) Lock and Dam No. 18 comprised of: (1) A 1,350-foot-long dam with 14 taintor gates and 3 roller gates and a 600-foot-long lock; and (2) a 12,152-acre reservoir with a normal pool elevation of 529.5 feet mean sea level.

The proposed Burlington Project would consist of: (1) Thirty submersible 500-kilowatt turbine generating units with total installed capacity of 15 megawatts (MW); (2) a 1-mile-long, 12.5-kilovolt (kV) transmission line; and (3) appurtenant facilities. The project would have an estimated average annual generation of 76,831 megawatts-hours (MWh), which would be sold to Alliant Energy. The project would be located along the western half of the Corps dam.

Applicant Contact: Mr. Doug Worden, City Manager, City of Burlington, Iowa, 400 Washington Street, Burlington, Iowa 52601, (319) 753-8120.

The proposed L&D 18 Project would consist of: (1) Twenty six Very Low Head generating units and 100 hydrokinetic generating units with a total installed capacity of 24.5 MW; (2) a 5.68-mile-long, 69-kV transmission line; and (3) appurtenant facilities. The project would have an estimated average annual generation of 119,500 MWh, which would be sold to Alliant Energy. The project would be located in the middle of the Mississippi River just downstream of the Corps dam.

Applicant Contact: Mr. Daniel R. Irvin, Free Flow Power Corporation, 33 Commercial Street, Gloucester, MA 01930, phone (978) 252-7631.

FERC Contact: Patrick Murphy, (202) 502-8755.

Deadline for filing comments, motions to intervene, competing applications (without notices of intent), or notices of intent to file competing applications: 60 days from the issuance of this notice. Comments, motions to intervene, notices of intent, and competing applications may be filed electronically via the Internet. See 18 CFR 385.2001(a)(1)(iii) and the instructions on the Commission's Web site under the “e-Filing” link. If unable to be filed electronically, documents may be paper-filed. To paper-file, an original and eight copies should be mailed to: Kimberly D. Bose, Secretary, Federal Energy Regulatory Commission, 888 First Street, NE., Washington, DC 20426. For more information on how to submit these types of filings please go to the Commission's Web site located at http://www.ferc.gov/filing-comments.asp. More information about this project can be viewed or printed on the “eLibrary” link of Commission's Web site at http://www.ferc.gov/docs-filing/elibrary.asp. Enter the docket number (P-13429 or 13455) in the docket number field to access the document. For assistance, call toll-free 1-866-208-3372.

Kimberly D. Bose,
Secretary.

[FR Doc. E9-12081 Filed 5-22-09; 8:45 am]

BILLING CODE 6717-01-P